DEPARTMENT OF THE INTERIOR

Bureau of Indian Affairs

[201A2100DD/AAKC001030/A0A501010.999900 253G]

Annual Meeting Under Indian Employment, Training and Related Services Act, as Amended

AGENCY: Bureau of Indian Affairs, Interior.

ACTION: Notice of Meeting.

SUMMARY: The Department of the Interior, Bureau of Indian Affairs (BIA), is announcing the annual meeting of the Federal agencies and Tribes that participate in the Indian Employment, Training and Related Services Act of 2017, also known as “Public Law 477.” Due to the COVID-19 pandemic and for the safety of all individuals, the meeting will be conducted via WebEx and by telephone.

DATES: The annual Federal Partner and Tribal 477 Work Group meeting will be held on Monday, September 28, 2020 from 12:30 p.m. to 3:30 p.m. Eastern Daylight Time (EDT).

ADDRESSES: All Advisory Board activities and meetings will be conducted online and by phone. See the SUPPLEMENTARY INFORMATION section of this notice for directions to join WebEx and by telephone.

FOR FURTHER INFORMATION CONTACT: Jeanette Hanna, Deputy Bureau Director, Indian Services, Bureau of Indian Affairs, Jeanette.Hanna@bia.gov, (202) 513-7640.

SUPPLEMENTARY INFORMATION: The annual Federal Partner and Tribal 477 Work Group meeting will be on WebEx video conference and by phone. Call-in information follows:

WebEx: https://ocfoia.webex.com/ocfoia/onstage/g.php?MTID=ef573c94c1da637700998e9ffe034741a

Call in: +1-415-527-5035

Access code: 199 196 6375

Background

In 2017, the Congress enacted the Indian Employment Training and Related Services Consolidation Act of 2017, Public Law 115-93, codified at 25 U.S.C. 3401-3417 (“2017 Act”). The 2017 update amended and expanded the Indian Employment and Related Services Demonstration Act of 1992, Public Law 102-477 (as amended in 2017, “PL 477”) by, in part, identifying eight additional Federal agencies that are now subject to the amended law, including the Departments of Justice, Agriculture, Commerce, Energy, Homeland Security, Housing and Urban Development, Transportation, and Veterans Affairs. Under PL 477, Tribes may propose to integrate eligible grant programs from these agencies and the Departments of the Interior, Health and Human Services, Labor and Education, consolidate and reprogram grant funds in accordance with a plan approved by the Secretary of the Interior (“477 Plan”). As required by the 2017 updates to PL 477, the Department of the Interior entered into a Memorandum of Agreement (MOA) among the 12 Federal agencies to implement PL 477.

Annual Meeting

As lead agency responsible for implementation of PL 477, BIA announces the annual meeting of participating Tribes and Federal agencies. As directed by statute, the meeting will be co-chaired by Assistant Secretary-Indian Affairs Tara Sweeney and 477 Tribal Work Group Committee Chair Margaret Zientek. 25 U.S.C. 3410(a)(3)(B)(i).

The agenda will include:

I. Status of Participating 477 Tribes

• 477 Programs to be integrated

• Plan Approval Process

• Waiver Approvals

• Funds Transfer

• Annual Reports

• 477 Tribal Recognitions

II. Discussion on Memorandum of Agreement

• Status of Memorandum of Agreement

• Recommendation for Changes/Improvements/Areas to be addressed

• Status of Labor Force Report

III. COVID-19 Pandemic

• Challenges and Success

IV. Miscellaneous

• Financial Assistance for 477 Tribes to develop a database

• Expansion of Tribal programs

• Establish Annual Meeting of Tribes and Federal agencies

To join the meeting, use WebEx video call or call in by phone:

WebEx: https://ocfoia.webex.com/ocfoia/onstage/g.php?MTID=ef573c94c1da637700998e9ffe034741a

Call in: +1-415-527-5035

Access code: 199 196 6375

Tara Sweeney,
Assistant Secretary—Indian Affairs.

[FR Doc. 2020-20186 Filed 9-11-20; 8:45 am]

BILLING CODE 4337-15-P